DEPARTMENT OF ENERGY

10 CFR Part 431

[Docket Number EERE-2013-BT-STD-0030]

RIN 1904-AD01

Energy Conservation Program: Energy Conservation Standards for Commercial Packaged Boilers

AGENCY: Office of Energy Efficiency and Renewable Energy, Department of Energy.

ACTION: Extension of public comment period.

SUMMARY: On March 24, 2016, the U.S. Department of Energy (DOE) published in the Federal Register a notice of proposed rulemaking (NOPR) for commercial packaged boiler energy conservation standards. This document announces an extension of the public comment period for submitting comments on the NOPR or any other aspect of the rulemaking for commercial packaged boilers. The comment period is extended to June 22, 2016.

DATES: The comment period for the proposed rule published on March 24, 2016 (81 FR 15836), is extended. DOE will accept comments, data, and information regarding this rulemaking received no later than June 22, 2016.

ADDRESSES: Interested persons may submit comments, identified by docket number EERE-2013-BT-STD-0030 and/or Regulation Identifier Number (RIN) 1904-AD01, by any of the following methods:

• Federal eRulemaking Portal: www.regulations.gov. Follow the instructions for submitting comments.

• Email: PkgdBoilers2013STD0030@ee.doe.gov. Include the docket number EERE-2013-BT-STD-0030 and/or RIN 1904-AD01 in the subject line of the message.

• Mail: Ms. Brenda Edwards, U.S. Department of Energy, Building Technologies Program, Mailstop EE-5B, 1000 Independence Avenue SW., Washington, DC 20585-0121. If possible, please submit all items on a compact disc (CD), in which case it is not necessary to include printed copies. [Please note that comments and CDs sent by mail are often delayed and may be damaged by mail screening processes.]

• Hand Delivery/Courier: Ms. Brenda Edwards, U.S. Department of Energy, Building Technologies Program, 950 L'Enfant Plaza SW., Suite 600, Washington, DC 20024. Telephone (202) 586-2945. If possible, please submit all items on CD, in which case it is not necessary to include printed copies.

Docket: The docket is available for review at www.regulations.gov, including Federal Register notices, framework documents, public meeting attendee lists and transcripts, comments, and other supporting documents/materials. All documents in the docket are listed in the www.regulations.gov index. However, not all documents listed in the index may be publicly available, such as information that is exempt from public disclosure.

The rulemaking Web page can be found at: https://www1.eere.energy.gov/buildings/appliance_standards/standards.aspx?productid=8The Web page contains a link to the docket for this notice on the regulation.gov site. The www.regulations.gov Web page contains instructions on how to access all documents in the docket, including public comments.

FOR FURTHER INFORMATION CONTACT: Mr. James Raba, U.S. Department of Energy, Office of Energy Efficiency and Renewable Energy, Building Technologies Office, EE-5B, 1000 Independence Avenue SW., Washington, DC 20585-0121. Telephone: (202) 586-8654. Email: Jim.Raba@ee.doe.gov.

In the Office of the General Counsel, contact Mr. Peter Cochran, U.S. Department of Energy, Office of the General Counsel, GC-33, 1000 Independence Avenue SW., Washington, DC 20585-0121. Telephone: (202) 586-9496. Email: Peter.Cochran@hq.doe.gov.

SUPPLEMENTARY INFORMATION: On March 24, 2016, DOE published in the Federal Register a notice of proposed rulemaking (NOPR) for Commercial Packaged Boilers. 81 FR 15836. The notice provided for submitting written comments, data, and information by May 23, 2016. DOE has received three requests to suspend the rulemaking until DOE completes a companion rulemaking addressing test procedures for commercial package boilers. (See: AHRI, No. 51, Laclede, No. 52, and AGA/APGA, No. 53). At this time, DOE denies the request to suspend the rulemaking for an undefined period of time, as requested. However, in oral comments at the April 21 public meeting regarding proposed energy conservation standards, a representative from the Air-Conditioning, Heating, & Refrigeration Institute (AHRI) requested an extension of the comment period for the NOPR, if DOE did not grant the suspension previously requested. An extension of the comment period would allow additional time for AHRI and other interested parties to examine the data, information, and analysis presented in the Commercial Packaged Boilers Technical Support Document, gather any additional data and information to address the proposed standards, and submit comments to DOE. The TSD can be found at: https://www1.eere.energy.gov/buildings/appliance_standards/standards.aspx?productid=8.

In view of the alternative request and oral comments presented by AHRI during the April 21 public meeting, DOE has determined that a 30-day extension of the public comment period is appropriate. The comment period would be extended to June 22, 2016.

Issued in Washington, DC, on April 26, 2016.
Kathleen B. Hogan,
Deputy Assistant Secretary for Energy Efficiency, Energy Efficiency and Renewable Energy.

[FR Doc. 2016-10427 Filed 5-3-16; 8:45 am]

BILLING CODE 6450-01-P